DEPARTMENT OF ENERGY

Federal Energy Regulatory Commission

[Project No. 14329-002]

Columbia Basin Hydropower; Notice of Intent To File License Application, Filing of Pre-Application Document, Approving Use of the Traditional Licensing Process

a. Type of Filing: Notice of Intent to File License Application and Request to Use the Traditional Licensing Process.

b. Project No.: 14329-002.

c. Date Filed: June 27, 2016.

d. Submitted By: Columbia Basin Hydropower.

e. Name of Project: Banks Lake Pumped Storage Project.

f. Location: On Banks Lake and Franklin D. Roosevelt Lake, in Grant and Douglas Counties, Washington. The project occupies about 65 acres of United States lands administered by Bureau of Reclamation.

g. Filed Pursuant to: 18 CFR 5.3 of the Commission's regulations.

h. Potential Applicant Contact: Tim Culbertson, Columbia Basin Hydropower, P.O. Box 219, Ephrata, WA 98823; (509) 754-2227; email: TCulbertson@cbhydropower.org.

i. FERC Contact: Karen Sughrue at (202) 502-8556; or email at karen.sughrue@ferc.gov.

j. Columbia Basin Hydropower filed its request to use the Traditional Licensing Process on June 27, 2016. Columbia Basin Hydropower provided public notice of its request on August 4, 2016. In a letter dated August 31, 2016, the Director of the Division of Hydropower Licensing approved Columbia Basin Hydropower's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the Washington State Historic Preservation Officer, as required by section 106, National Historic Preservation Act, and the implementing regulations of the Advisory Council on Historic Preservation at 36 CFR 800.2.

l. With this notice, we are designating Columbia Basin Hydropower as the Commission's non-federal representative for carrying out informal consultation pursuant to section 7 of the Endangered Species Act and section 305(b) of the Magnuson-Stevens Fishery Conservation and Management Act; and consultation pursuant to section 106 of the National Historic Preservation Act.

m. Columbia Basin Hydropower filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: August 31, 2016.
Kimberly D. Bose,
Secretary.

[FR Doc. 2016-21420 Filed 9-6-16; 8:45 am]

BILLING CODE 6717-01-P